ENVIRONMENTAL PROTECTION AGENCY

40 CFR Parts 51, 60, 61 and 63

[EPA-HQ-OAR-2008-0531; FRL-9195-7]

RIN 2060-AP23

Restructuring of the Stationary Source Audit Program

AGENCY: Environmental Protection Agency (EPA).

ACTION: Final rule.

SUMMARY: EPA is taking final action to promulgate amendments to the General Provisions to allow accredited providers to supply stationary source audit samples and to require sources to obtain and use these samples from the accredited providers instead of from EPA, as is the current practice. All requirements pertaining to the audit samples have been moved to the General Provisions and have been removed from the test methods because the current language in the test methods regarding audit samples is inconsistent from method to method. Therefore, deleting all references to audit samples in the test methods eliminates any possible confusion and inconsistencies. Under this final rule, the requirement to use an audit sample during a compliance test will apply to all test methods for which a commercially available audit exists.

DATES: This final rule is effective 30 days after September 13, 2010.

ADDRESSES: EPA has established a docket for this action under Docket ID No. EPA-HQ-OAR-2008-0531. All documents in the docket are listed on the http://www.regulations.gov Web site. Although listed in the index, some information is not publicly available, e.g., CBI or other information whose disclosure is restricted by statute. Certain other material, such as copyrighted material, is not placed on the Internet and will be publicly available only in hard copy form. Publicly available docket materials are available either electronically through http://www.regulations.gov or in hard copy at the Restructuring of the Stationary Source Audit Program Docket, Docket ID No. EPA-OAR-2008-0531, EPA Docket Center, EPA/DC, EPA West, Room 3334, 1301 Constitution Ave., NW., Washington, DC. This Docket Facility is open from 8:30 a.m. to 4:30 p.m. Monday through Friday excluding legal holidays. The docket telephone number is (202) 566-1742. The Public Reading Room is open from 8:30 a.m. to 4:30 p.m., Monday through Friday, excluding legal holidays. The telephone number for the Public Reading Room is (202) 566-1744.

FOR FURTHER INFORMATION CONTACT: Ms. Candace Sorrell, U.S. EPA, Office of Air Quality Planning and Standards, Air Quality Assessment Division, Measurement Technology Group (E143-02), Research Triangle Park, NC 27711; telephone number: (919) 541-1064; fax number: (919) 541-0516; e-mail address: sorrell.candace@epa.gov.

SUPPLEMENTARY INFORMATION:

I. General Information

A. Does this action apply to me?

This action would apply to you if you operate a stationary source that is subject to applicable requirements to conduct compliance testing under 40 CFR parts 60, 61, and 63.

In addition, this action would apply to you if Federal, State, or local agencies take certain additional actions. For example, this action would apply if State or local agencies implement regulations using any of the stationary source compliance test methods in Appendix M of Part 51 by adopting these methods in rules or permits (either by incorporation by reference or by duplicating the method in its entirety).

The source categories and entities potentially affected include, but are not limited to, the following:

Category | NAICS ᵃ | Examples of regulated entities
Industry | 336111 336112 | Surface Coating.
Industry | 332410 | Industrial, Commercial, Institutional Steam Generating Units.
Industry | 332410 | Electric Generating Units.
Industry | 333611 | Stationary Gas Turbines.
Industry | 324110 | Petroleum Refineries.
Industry | 562213 | Municipal Waste Combustors.
Industry | 322110 | Pulp and Paper Mills.
ᵃ North American Industry Classification System.

B. Where can I obtain a copy of this action and other related information?

In addition to being available in the docket, an electronic copy of the final rule is also available on the Worldwide Web (http://www.epa.gov/ttn) through the Technology Transfer Network (TTN). Following the Administrator's signature, a copy of the final rule will be posted on the TTN's policy and guidance page for newly proposed or promulgated rules at http://www.epa.gov/ttn/oarpg. The TTN provides information and technology exchange in various areas of air pollution control.

C. How is this document organized?

The information in this preamble is organized as follows:

I. General Information

A. Does this action apply to me?

B. Where can I obtain a copy of this document and other related information?

C. How is this document organized?

II. Background

III. This Action

IV. Public Comments on the Proposed Rule

A. Accreditation Program vs. Audit Program

B. Alternatives to Restructuring the Audit Program

C. Test Method Bias With Respect to the Audit Program

D. Terms Need Defining or Clarifying

E. Audit Sample Failure and Non-Compliance

F. Reporting Period

G. Choosing Correct Concentration for an Audit Sample

H. Cost Estimates

I. Requiring the Same Analyst and Analytical System for Sample Analysis

J. When are audit samples required?

K. Audit Sample Availability

L. Setting Acceptance Limits

M. Audit Samples Should Not Apply to Instrumental Methods

N. Notice and Comment Procedure

O. Field Analysis of Audit Samples

P. Audit Sample Matrix

Q. Audit Results Reporting and Availability

R. External QA Program

S. No Justification for the Program

T. Consistency

U. Ordering Audit Samples

V. EPA Maintained List of Audit Providers

W. 2003 Study on Quality Gas Cylinder Samples

X. Proposal Is Premature

Y. Voluntary Consensus Standards Body (VCSB) Standard Does Not Meet EPA's Needs

Z. Gas Audit Samples Entry Point

V. Judicial Review

VI. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions Concerning Regulations That Significantly Affect Energy Supply, Distribution, or Use

I. National Technology Transfer and Advancement Act

J. Executive Order 12898: Federal Actions To Address Environmental Justice in Minority Populations and Low-Income Populations

K. Congressional Review Act

II. Background

The Restructuring of the Stationary Source Audit Program (SSAP) was proposed in the Federal Register on June 16, 2009, with a public comment period that ended July 16, 2009 (74 FR 28451). A public commenter asked that the comment period be extended. We extended the public comment period until August 5, 2009 (74 FR 31903). A total of 21 comment letters were received on the proposed rule. We have compiled and responded to the public comments and made appropriate changes to the final rule based on the comments.

III. This Action

This action finalizes revisions to the General Provisions of Parts 51, 60, 61, and 63 to allow accredited audit sample providers to supply stationary source audit samples and to require sources to obtain and use these samples from the accredited providers instead of from EPA, as was the practice. It also revises test methods 5I, 6, 6A-C, 7, 7A-D, 8, 15A, 16A, 18, 23, 25, 25C, 25D, 26, 26A, 104, 106, 108, 108A-C, 204A-F, 306, 306A, and 308 to delete any language pertaining to audit samples. By adding language to the General Provisions of Parts 51, 60, 61 and 63, the requirement to obtain and use audits for stationary source compliance testing using EPA stationary source test methods is expanded and clarified. The previous General Provisions and EPA test methods were not consistent in their language concerning the use or availability of audit samples. This action will potentially increase the number of test methods required to use audit samples and clarify how the samples are to be obtained and used. By clarifying the requirement for audit samples and expanding their availability through multiple providers, EPA believes audit samples will be used during more compliance tests and, therefore, the overall quality of the data used for determining compliance will improve.

This action finalizes the regulatory criteria which list the minimum requirements for the audit samples, the accredited audit sample providers (AASP), and the audit sample provider acceditor (ASPA). The AASP is the company that prepares and distributes the audit samples and the ASPA is a third-party organization that will accredit and monitor the performance of the AASPs. Both the AASP and the ASPA must work with a Voluntary Consensus Standard Body (VCSB) using the consensus process to develop criteria documents that describe how they will function and meet EPA regulatory criteria listed in this rule. The Federal Office of Management and Budget Circular A-119 defines a VCSB as one having the following attributes: (i) Openness; (ii) balance of interest; (iii) due process; (iv) an appeals process; and (v) consensus, which is general agreement, but not necessarily unanimity, and includes a process for attempting to resolve objections by interested parties. As long as all comments have been fairly considered, each objector is advised of the disposition of his or her objection(s) and the reason(s) why, and the consensus body members are given an opportunity to change their votes after reviewing the comments.

AASPs must be accredited by an ASPA according to a technical criteria document developed by a VCSB. The technical criteria document must meet EPA regulations. There may be many AASPs and more than one ASPA and VCSB. We predict that initially there will only be one VCSB.

This action finalizes language that outlines the responsibilities of the regulated source owner or operator to acquire and use an audit sample for all testing conducted to determine compliance with an air emission limit. The requirement applies only if there are commercially available audit samples for the test method used during the compliance testing. The source owner, operator or representative shall report the results for the audit sample along with a summary of the emission test results for the audited pollutant to the appropriate compliance authority.

In addition to allowing private AASPs to provide audit samples for the stationary source audit program, this action shifts the burden of obtaining an audit sample from the compliance authority to the source. In the past, the EPA provided the samples to the compliance authorities at no cost, but this action requires the source to purchase the samples from an accredited provider. The samples will vary in cost depending on the type of audit sample required; however, the cost will be a very small portion of the cost of a compliance test (approximately one percent). Based on historical data, EPA estimates that the total cost to industry to purchase audit samples will be between $150,000 to $200,000 per year at the current usage rate.

IV. Public Comments on the Proposed Rule

A more detailed summary of the public comments and our responses can be found in the Summary of Public Comments and Responses document, which is available from several sources (see ADDRESSES section). The major public comments are summarized by subject as follows:

A. Accreditation Program vs. Audit Program

Comment: Several comments suggested that the audit program was not needed due to the existence of accreditation programs for laboratories or that EPA should conduct a proficiency testing program as part of an accreditation program.

Response: An accreditation program or proficiency testing program serves a different purpose than an audit program. An accreditation program looks to see if the laboratory has the capabilities to conduct the analysis in question. The audit program is an event driven program that looks to see at a particular time that the combination of equipment and analyzer is able to analyze the sample within an acceptable range. Analyzing the audit samples at the same time as the field samples using the same equipment and analyst give the compliance authorities and the regulated community more confidence in the test results.

B. Alternatives to Restructuring the Audit Program

Comment: A number of commenters suggested alternatives to our proposed restructuring of the audit program to allow for independent accredited audit sample providers. These alternatives included maintaining the audit program as it currently stands in order to maintain oversight/authority, charging for audit samples, or conducting an EPA accreditation program for audit sample providers.

Response: We retain oversight authority over all parties who develop information required by EPA to fully assess the proper implementation of the Clean Air Act (CAA). Section 114 of the Act gives EPA the authority to require the production of information, test results and answers to questions EPA may ask. We do not believe that it is necessary for EPA to directly provide or approve specific audit samples in order to ensure integrity in this program.

We do not believe it is necessary to develop a program to certify audit providers when there are already Voluntary Consensus Bodies in existence that have the capabilities to develop such a program with the input from a wide variety of stakeholders. Also, EPA is not legally allowed to charge for the samples. It would be a violation of the Miscellaneous Receipts Statute, 331 U.S.C. Section 3302(b), in addition to being an unlawful augmentation of EPA's Congressional appropriation.

C. Test Method Bias With Respect to the Audit Program

Comment: One commenter noted that by definition a performance audit is intended to provide a measure of test data bias. The commenter stated that this program is presumably intended as an audit of emissions sampling and analysis that would include the sampling technique, sample handling, sample preparation, and sample analysis accounting for the measurement biases relative to all steps of the process. However, this is not clear in the proposed rule. Please clarify the intent of the performance audit.

Response: Most of the current audit samples only evaluate the analysis portion of the method; we believe that in the future restructured program more audits will assess the effect of sampling and handling because we defined blind audit sample as follows: “A blind audit sample is a sample whose value is known only to the sample provider and is not revealed to the tested facility until after they report the measured value of the audit sample. For pollutants that exist in the gas phase at ambient temperature, the audit sample shall consist of an appropriate concentration of the pollutant in air or nitrogen that will be introduced into the sampling system of the test method at or near the same entry point as a sample from the emission source.”

D. Terms Need Defining or Clarifying

Comment: Several commenters requested that the following terms be defined in the final rule: Commercially available and true value.

Response: We agree that “commercially available” and “true value” need to be defined. The final rule has been revised to state that an audit sample is “commercially available” when there are two or more sources for obtaining the audit sample. “True value” is the spiked/expected value of the audit.

Comment: One commenter suggested that the term “performance audit” be revised to include the potential for field collection of audit samples.

Response: Our intent was to include field collection and analysis in the definition of performance audit. We revised the definition in the final rule to state that if gaseous audits are available then they must be collected by the field sampling system during the compliance test just as the compliance samples are collected.

E. Audit Sample Failure and Non-Compliance

Comment: Seven commenters oppose the use of audit samples as evidence of non-compliance and believe the audit sample results should only be used as a tool to assess the quality of the compliance testing results but not as the sole reason for finding a facility in non-compliance when the emission test may demonstrate compliance.

Response: We believe the audit sample results can and should be used to assess the quality of test results for compliance purposes, but those audit sample results can and should, as appropriate, also be used to assist in establishing non-compliance. Sources may present whatever credible evidence they have to compliance officials indicating whether or not the audit sample results have a significant bearing on the compliance test results.

Comment: Three commenters recommended that the rule provide a means to appeal or question a retest or compliance action as the result of a failed audit. They believe that EPA should provide oversight authority to referee such situations, while one commenter suggested a procedure to require the audit sample be reanalyzed by the accredited audit sample provider.

Response: Audit samples are not the only criterion used to evaluate the quality of the test data; therefore, we do not expect disputes to be common. We believe that disputes involving failed audits can be negotiated by the parties.

F. Reporting Period

Comment: Three commenters requested that the final rule include additional time to submit a final report if audit results must be included in the report or delete the requirement to include the pass/fail results in the final report.

Response: Since the purpose of an audit sample is to support the credibility of a particular test result, it is important that the pass/fail result of the audit sample be included in the final test report. By privatizing the audit program, facilities will be able to get audit results directly from the AASPs which will be much quicker then obtaining them from the compliance authorities as in the past. Since the procedure for obtaining audit results will now be quicker, the final rule does not include additional time to submit a final report.

G. Choosing Correct Concentration for an Audit Sample

Comment: One commenter expressed concern that the proposed rule did not provide for compliance authority input into the supplied audit concentration levels. This commenter pointed out that while the proposal specifies that the source provide an estimate of the pollutant concentration(s), there is no compliance authority confirmation, nor the option for the compliance authority to make specific requests based on the needs for the given test program.

Response: We agree that the compliance authority should have the opportunity for input into the supplied audit sample concentration level. The final rule has been revised to require that an acceptable criteria document must provide the opportunity for the compliance authority to comment with the supplied audit sample concentration levels.

Comment: One commenter stated that Section 60.8(g)(1), “When ordering an audit sample, the source operator, or representative shall give the sample provider an estimate for the concentration of each pollutant that is emitted by the source and the name, address, and phone number of the compliance authority” will cause confusion because a source may or may not know the concentration of the pollutant of concern. Because EPA's interest is in ensuring that the emission standards are being met, the commenter suggested that the requirement should be to provide information on the standard the facility has to meet and the concentration that would be expected if the emissions equaled the permitted level.

Response: We agree that the facility could provide information based on the facility standard or permit level instead of exact emissions. The rule has been revised to allow this option.

H. Cost Estimates

Comment: Four commenters stated that the cost estimates for audit samples are low. The commenters also asserted that the cost will be more than the EPA's estimate of approximately 1 percent of a source test. One commenter cited an example where a NELAC Performance Test (PT) sample initially cost $150 and quickly increased to over $900 for just a standard SO2 gas audit sample.

Response: The commenter did not present any evidence to support this cost, and we were not able to substantiate the claim. According to discussions with the Executive Director of The NELAC Institute, the current cost range of SO2 PT samples is approximately $95 to $108, and we expect the cost for the SO2 audit samples to be about the same because they are made exactly the same and only used for different purposes. The cost estimates discussed in the proposed rulemaking are based on the last ten years that EPA has operated the program.

Comment: Seven commenters stated that EPA significantly underestimated the cost of the audit program because EPA did not include the analytical fees associated with the audit.

Response: Analytical fees are not a new cost. Facilities have always been required to pay for the analysis of the audit samples even under the current program where we have provided the audit samples free of charge. Therefore, we do not believe it is appropriate to add analytical fees to the estimated cost for the program.

Comment: One commenter expressed concern that the cost estimates and the Information Collection Request (ICR) are woefully incomplete. This commenter stated that EPA's estimate should include the total costs and burdens imposed on sources by the proposed new SSAP such as the cost to sources for purchasing audit samples, analyzing (and in some cases reanalyzing) audit samples, reporting audit sample results and other information, developing and implementing the other aspects of the proposed “external QA program,” and participating initially and every two years thereafter in the proposed VCSB “public process” to ensure that criteria developed by those organizations are reasonable, and not just the cost incurred by the AASP to report the true value of the audit sample. This commenter believes that the burden estimate should also include the cost to EPA of reviewing and approving proposed “written technical criteria documents” and otherwise participating in the VCSB process. This commenter believes that EPA could limit the ICR to the cost incurred by the AASP to report the true value of the audit sample only if the other burdens already were covered under an approved ICR for the period in question.

Response: The ICR estimate of burden includes the estimated cost for the AASP to report the results of the audit to the compliance authority. In addition, the ICR has been revised to include the cost of the audit sample since in the past the audit samples were free. The cost of the requirement to analyze (and in some cases reanalyze) audit samples and reporting audit sample results has already been taken into account in past ICRs for each emission limit under the New Source Performance Standards which contained a burden estimate for reporting emission testing results to demonstrate compliance with emission limits. We believe that not all compliance tests that should be audited are being audited under the current program. We believe under the restructured program the rate of compliance with the audit requirement will be higher; therefore, we have revised the ICR to reflect the fact that more audit samples will be purchased. The final rule does not require anyone to participate in the VCSB “public process” and, therefore, the cost of participating was not included in the ICR.

I. Requiring the Same Analyst and Analytical System for Sample Analysis

Comment: Two commenters are concerned about the requirement that the audit sample must be analyzed by the same analyst using the same analytical reagents and analytical system as the compliance samples. These commenters pointed out that there may be several gas chromatograph/mass spectrometers in a particular lab, and all of these instruments are calibrated and certified, so that it does not matter which of these instruments are used to analyze an individual sample.

Response: While EPA agrees that identical instruments calibrated by the same reagents should give the same answer within repeatability limits, EPA also believes that it is important to limit all sources of imprecision and, therefore, the audits should be analyzed using the same analyst and the same analytical system as the compliance test samples.

Comment: One commenter stated that the requirement that the “audit sample must be analyzed by the same analyst using the same analytical reagents and analytical system as the compliance samples” should be expanded to specify analyzing them in the same batch as the compliance samples and, if they are collected in the field, to collect them with the same person(s), using the same reagents and collection system. This commenter suggested that if field testers use different sampling trains to collect compliance samples during different test runs, from then the tester should collect audit samples with all the trains and analyze the samples from the different trains separately or as a composite.

Response: We have revised the final rule to clarify how field audits should be collected when the audit sample is designed to check the sampling system. The final rule requires that field audits must be collected using the same field testing person who collected the field samples using one of the field sampling systems that was used to collect the compliance samples. If multiple sampling systems were used, the rule will not require that each sampling train used during the field test be used to collect an audit sample. The revised rule also requires that the audit samples must be analyzed at the same time as the test samples unless the compliance authority waives this requirement.

J. When are audit samples required?

Comment: Two commenters believe it makes more sense for the source and the compliance authority to discuss the need for an audit sample on a case-by-case basis instead of EPA making it mandatory for each individual test.

Response: The requirement for an audit sample is nothing new. Current regulations require audit samples if they are available and we do not see a need to change the requirement. We believe that the program should be administered consistently across the Nation and the only way to do that is to require the tester to include an audit sample with all compliance tests using methods for which audits are available. The compliance authority can always waive the requirement to include an audit sample for a specific compliance test if they believe the audit sample is not necessary.

Comment: Four commenters stated that the proposed rule was unclear with respect to how many audit samples may be required during a given performance test. They stated that if the same method is used and the same pollutant is sampled, then only one audit sample should be necessary for the entire set of samples collected during a test program.

Response: We agree that only one audit sample per method used during a performance test is needed so long as all pollutants measured using that method are covered by the audit sample. The final rule has been revised to clarify this.

K. Audit Sample Availability

Comment: Two commenters are concerned that the timing for checking on availability of a specific pollutant audit sample does not mesh with the 60-day requirement to submit a test protocol for approval by the permitting authority. The commenters suggested that the cut-off date for sources to locate and incorporate audit sample requirements into a performance test plan must be at least three months prior to submitting the test protocol to their permitting authority.

Response: There is no requirement under the amended SSAP program to submit a test protocol for approval by the compliance authority. If a source chooses to voluntarily prepare and submit a test protocol, the protocol could incorporate audit sample requirements that would have to be met only if an audit sample became available 60 days prior to the scheduled test date.

Comment: One commenter stated that EPA presumes that there will be Accredited Audit Sample Providers or Accredited Proficiency Test Sample Providers willing to get in the business of supplying the necessary audits for all applicable methods. The commenters suggested that EPA should plan for a transition period if there is a delay in getting providers accredited.

Response: We anticipate that audit samples will be available for most if not all the methods for which EPA currently provides audit samples. We know that The NELAC Institute is currently developing criteria documents and accreditation standards to produce audit standards (http://www.nelac-institute.org/standards.php) so we know there is interest in the private sector. We believe there will be an accredited audit program in the future. Therefore, we do not believe that there is a need for a transition period during which EPA would continue to provide audit samples until an accredited audit sample provider is approved. Again, if an audit sample is not available, there is no requirement for use of an audit sample.

Comment: One commenter suggested that PT samples should not be used in place of audit samples, unless PT providers follow the provider requirements and be accepted as an audit sample provider by a provider accreditor, as set forth in the Standards defined by the VCSB they are using.

Response: We agree with this comment. The rule has been revised to remove the option of using PT samples in place of audit samples if audit samples are not available.

Comment: One commenter believes EPA should not allow sources to forgo using an audit sample if the EPA fails to identify a provider on its Web site 60 days before a scheduled test. This commenter contends that EPA should leave the job of identifying providers and which samples are available to the sources that are required to demonstrate compliance.

Response: It takes time to plan and prepare for a source test. We do not want a source to be cited for a violation because an audit sample becomes available a short time before the compliance test. We also do not want sources and testing firms to spend time every day looking for available audit samples. Therefore, we believe the final rule needs to provide a 60-day time frame so that sources can properly plan a compliance test. In addition, listing the available audits on our Web site not only benefits the sources but also the compliance authorities. The list provides one location for them to see what is available; otherwise they too would have to constantly contact providers for information on available audits.

L. Setting Acceptance Limits

Comment: Two commenters are concerned about allowing the VCSBs to determine the audit acceptance criteria. The commenters contend that EPA needs to define its minimum requirements to define the acceptable level of performance for compliance purposes and not leave it up to voluntary consensus organizations.

Response: We agree that EPA needs to define minimum requirements for how the acceptance criteria should be determined in the final rule. The final rule has been revised to specify that acceptance criteria must be based on results from the analysis of audit test samples analyzed by qualified laboratories using the method that is being audited. The final rule requires that acceptance limits must be set so that 90 percent of qualified laboratories would produce results within the acceptance limits for 95 percent of all future audits. This acceptance criterion is consistent with the general goal that EPA established for the program it operated in the past.

M. Audit Samples Should Not Apply to Instrumental Methods

Comment: Three commenters expressed confusion and concern over how audit samples would be applied to instrumental methods and other test methods involving human observers (i.e., Method 9 and 22).

Response: We agree that it is not necessary to require audit samples for those test methods that use instruments to measure pollutants in stack gas samples taken directly from an emission source. These methods include Method 3C, 6C, 7E, 10, 20, 25A, 318, 320, and 321. These methods already have sufficient calibration and quality assurance requirements that would make an additional audit sample redundant. We believe that Method 18 also has sufficient quality assurance measures that make an audit sample unnecessary. This method requires that the tester perform a recovery study through the entire sampling system to demonstrate that the combined sampling and analytical system is capable of measuring the target pollutant within specified limits. The measured results are then corrected to account for the empirically determined recovery. We believe that for this method an audit sample would not add significant additional information about the quality of the measured results. We have revised the final rule to specifically exempt Methods 3C, 6C, 7E, 9, 10, 18, 20, 22, 25A, 303, 318, 320, and 321 from the requirement to have an audit sample. We also agree that Methods 9, 22, and 303 do not need audit samples. These are all methods for determining visible emissions by observation and, therefore, there is no practical way to audit them. The final rule has been revised to exempt these methods from the audit sample requirement.

N. Notice and Comment Procedure

Comment: One commenter believes this proposal turns the requirements of the “National Technology Transfer and Advancement Act of 1995 (NTTAA)” (Pub. L. 104-113) “on its head” because the NTTAA requires EPA (and other Federal agencies) to use standards already adopted by VCSBs, where appropriate, rather than developing their own government-unique standards. In addition NTTAA requires EPA to participate in the development of such standards to help ensure their usefulness in government applications but does not authorize EPA to adopt VCSB standards that do not currently exist, to adopt rules that condition sources' compliance with Federal regulations on a VCSB's adoption of standards, or to require regulated sources to participate in future VCSB proceedings in order to protect their interests.

The commenter also contends that EPA's own regulations do not allow EPA to approve and incorporate by reference future VCSB standards because it would be an unlawful circumvention of notice and comment procedures, and of limitations on incorporation by reference.

Response: The NTTAA only requires agencies to use VCS in regulatory actions when VCSs are available. There are no current standards adopted by VCSBs for audit samples. We are allowing VCSBs to develop standards for audit samples and allowing these standards to be used for government applications. These audit samples are not used to determine compliance. They are quality assurance tools used during compliance testing to assist in determining the accuracy of the compliance testing. The final rule does not condition a sources's compliance with Federal regulations on a VCSBs adoption of standards. If audit samples do not exist for a particular compliance test, an audit sample is not required. Although some may choose to participate, there is also no requirement that sources participate in future VCSB proceedings.

On the second point, we did not circumvent notice and comment procedures. The final rule establishes minimum requirements for the audit samples, the accredited audit sample providers and the audit sample provider accreditor. We have proposed these criteria for notice and comment. Although audit samples may be produced in the future, the only audit samples that we will accept are those that meet the substantive requirements of this rule. Accordingly, all commenters have had a full opportunity to discuss their concerns with the requirements set for audit samples by this rule.

O. Field Analysis of Audit Samples

Comment: Five commenters requested that the final rule be revised to allow the owner/operator to obtain a waiver from the requirement to have the compliance authority present at the testing site on a case-by-case basis when the method being audited is a method that allows the samples to be analyzed in the field and tester plans to analyze the samples in the field because it may not be practical for a representative from the compliance authority to be on-site for every one of these audit analyses.

Response: We agree that it may not be practical in all cases for a representative of the compliance authority to be present when an audit sample is analyzed in the field, so we revised the final rule to allow the owner/operator to obtain a waiver from the compliance authority for the requirement to have the compliance authority present at the testing site.

P. Audit Sample Matrix

Comment: Three commenters discussed the issue of the audit sample matrix. One commenter felt we needed to be clear about what interferents can and cannot be added to the samples to ensure consistency among the audit providers. Another commenter stated that EPA must specifically require that audit samples include realistic interferents while the third commenter found the use of interferents troubling since the audit providers would not necessarily know what to mimic.

Response: The term sample matrix was not intended to imply that the audit samples were to be prepared in a manner that would duplicate an emission gas stream. The term matrix is only used in conjunction with those samples that do not consist of the pollutant in the gas phase in air or nitrogen. The term matrix was used to indicate that if a method collected the pollutant in a similar aqueous solution, then the audit sample should consist of the pollutant in an aqueous solution. The EPA believes that preparing audit samples in a matrix that would include interferents that might or might not be present in the stack is too complex to be workable. EPA is not requiring that interferents be included in the audit samples.

Q. Audit Results Reporting and Availability

Comment: One commenter believes the compliance authority should be provided a copy of the audit results at the time of shipment from the sample provider because having the results prior to sample analysis helps generate more accurate data and minimizes problems.

Response: We believe that this would be beneficial but should not be mandatory. Since we did not provide the compliance authorities with the actual concentrations under the current audit program, it is hard to justify making it mandatory.

Comment: One commenter suggested that if the audit is conducted in the field and the results of the audit are available prior to conducting the emission tests, the facility should be provided with information on the pass/fail status of the audit test results prior to carrying out the source test. The commenter points out that this would avoid unnecessary testing and waste of resources when the ability of the source tester is in question because of failure to produce acceptable results for the audit sample.

Response: We agree with the commenter, and there is nothing in the final rule to prevent this scenario.

Comment: One commenter stated that audit sample providers should report only pass or fail for the audit sample result and not the true value of the audit sample because audit samples are to be unknowns. This commenter was concerned that if the audit samples are supplied in a limited number of concentrations, then over time this might reveal the true values and would compromise the unknown status of the audit sample.

Response: We agree that the sample's true value needs to remain blind to the sources and laboratories at least until the values are reported. The final rule has been revised to state that only pass or fail results shall be reported unless the accredited audit sample provider ensures that no laboratory will receive the same sample twice.

Comment: One commenter stated that the audit sample provider would be under no compliance (or contractual) obligation to provide a quick turnaround on the audit results, so significant delay could occur during this step, depending on the audit sample provider's availability. This commenter asked EPA to add a regulatory provision requiring the audit sample provider to send out the results of the audit within 7 calendar days.

Response: We agree that it is important that the AASPs provide a quick turnaround of the audit results. The final rule includes a requirement that AASPs submit the results in a timely manner. The AASPs and the sources may decide a more specific time frame.

R. External QA Program

Comment: One commenter expressed confusion and concern about the proposed rule's use of the terminology “External QA program” and that an additional requirement might be added to the external QA program.

Response: The only mandatory requirement under the restructured audit program would be to include an audit sample with each compliance test. EPA has revised the final rule to make this clear.

S. No Justification for the Program

Comment: Five commenters believe that EPA did not provide a justification for continuing the current program or expanding the program. Three commenters felt that the emergence of private providers is an insufficient rationale for the rulemaking.

Response: We disagree. The emergence of private providers is one reason for changing the audit program. We discussed other reasons for privatizing the audit program in the Notice of Proposed Rule Making. Also, we believe allowing private companies to provide audit samples will: (1) Ensure a wider range of audit sample concentrations that will better match the working range of the methods, (2) provide a more efficient and responsive system for supplying the required samples, (3) ensure greater transparency in the operation of the audit program, (4) produce higher quality audit samples, and (5) ensure a more stable supply of samples.

T. Consistency

Comment: One commenter noted that there was an inconsistency in the proposed rules between the language in Part 51 and that in Part 60. According to this commenter, the language in Part 51 could be interpreted to mean that the results for an audit sample could be reported to the AASP or Accredited PT Sample Providers (APTSP) at some later time after reporting to the compliance authority, whereas the language in Part 60 could be interpreted to mean that the audit sample results should be reported to the compliance authority and to the AASP or APTSP at the same time. The commenter suggested that the statement in Part 51 should be amended to correspond with the statement in Part 60.

Response: We agree that the two statements should be consistent. The final rule has been revised so all parts require that the audit sample results be reported to the compliance authority and the audit sample provider at the same time.

Comment: One commenter suggested that we revise the National Emission Standards for Hazardous Air Pollutants (NESHAP) General Provisions for consistency with the proposed audit restructuring program. The commenter pointed out that provisions in 63.7(4)(i) state that “audit materials may be obtained by contacting the appropriate EPA Regional Office or responsible enforcement authority,” and this language conflicts with the proposed rule.

Response: We agree and the final rule has been revised to correct the inconsistency.

U. Ordering Audit Samples

Comment: Two commenters stated that it is not clear who is responsible for obtaining the audit samples because the proposed rule allows the source or an agent for the source to request the audit sample for a source test. The commenters requested that EPA clarify the type of documentation that would be needed by the agent to demonstrate to the AASP that it is indeed an agent for the source.

Response: This provision was intended to allow the source owner or someone designated by the owner such as a member of a source testing firm to request the audit sample. The agent would need to work with the AASP to provide any documentation necessary to satisfy the AASP that they were an agent acting for the source.

Comment: One commenter believes there should be a time-frame for the source to order audit samples and the compliance authority should be notified when an audit sample was ordered.

Response: The final rule has been revised to provide the compliance authority input into the audit sample concentration range which in itself provides the compliance authority notification of an audit sample order. We believe the time frame for ordering audit samples is an issue that should be considered by the source owner, compliance authority and the AASP. It is not an issue that is covered by this rule.

V. EPA Maintained List of Audit Providers

Comment: One commenter is concerned that if source owners seek the lowest cost AASPs, then there could be audit sample shortages, unforeseeable variations in costs, audit quality issues, and last minute failures in AASPs supplying audit samples. The commenter also asked that EPA flag or remove any AASP that fails to deliver audit material as offered or promised.

Response: We intend to monitor the progress of this new system of supplying audit samples to ensure that it works as anticipated. We anticipate that most AASPs will deliver on their contracts, as most businesses want repeat customers.

W. 2003 Study on Quality Gas Cylinder Samples

Comment: One commenter believes reliance on voluntary consensus requirements for accreditation of audit samples does little to improve the reliability of compliance testing, and may threaten the quality of the testing itself without additional procedures for qualifying and auditing private entities. The commenter believes this makes the EPA proposal arbitrary and unreasonable. As proof of this contention, the commenter points to a 2003 study where EPA performed an audit of 42 source-level, tri-blend, EPA Protocol calibration gas cylinders from a total of 14 major gas vendors nationwide. The commenter points out that the overall failure rate from this study was 11 percent on a gas component basis, and 57 percent on a vendor basis, and that no additional evidence of the availability or the quality or calibration of private vendor audit samples has been offered to refute EPA's own study.

Response: This study is not relevant to the restructuring of the audit program. The gas vendors surveyed in this study were not accredited to produce EPA Protocol calibration gases because the protocol gas program does not require accreditation and were not subject to any third party verification. The restructured audit program requires that providers be accredited and provide recurring third party verification of the quality of the audit samples being produced.

X. Proposal Is Premature

Comment: One commenter expressed concern that there were no existing third party accrediting bodies for audit sample providers and, therefore, there are no AASPs from which to obtain audit samples under this proposed rule. This commenter contends that it is not sufficient for EPA to simply propose a framework and then to develop the details of the program after the opportunity for notice and comment has passed.

Response: As stated previously, an audit sample is required with compliance testing only when a sample is available, except where exempted in the regulations. EPA is permitted to develop regulatory criteria for approval of criteria documents from audit sample providers and did this in the proposed rule which provided an opportunity for notice and comment. These are not “details of the program” to be determined at a later date. If an audit sample provider's criteria document meets the regulatory criteria, it will be approved and the sample provider may provide samples for sources conducting compliance tests.

Y. Voluntary Consensus Standards Body (VCSB) Standard Does Not Meet EPA's Needs

Comment: One commenter believes the entire proposal is short on detail and hopes this will be addressed through EPA's approval of accrediting bodies, where EPA would specify additional details. The commenter also expressed concern the VCSB may be able to agree to standards, but those standards might not serve the needs of EPA or other compliance authorities.

Response: We believe that any program that meets the minimum criteria specified in the final rule will meet the needs of the EPA and other compliance agencies. The criteria in the final rule ensure that any program that is developed by the private sector and approved by EPA will be equivalent to EPA's current audit program.

Z. Gas Audit Samples Entry Point

Comment: One commenter recommended changing Section 60.8(g) to read as follows: “For pollutants that exist in the gas phase at ambient temperature, the audit sample shall consist of an appropriate concentration of the pollutant in air or nitrogen that can be introduced into the sampling system of the test method at or near the same entry point as a sample from the emission source.” The commenter points out that in source gas sampling, calibration gases as well as audit gases are introduced in the probe such that they pass through most of the probe tube and all filters and other components of the sampling system, but it is not always practical to introduce the calibration gas at the same entry point as the source gas.

Response: We agree that it may not always be practical to introduce the calibration gas at the same entry point as the source gas. EPA has revised the rule to allow introduction of the audit sample “at or near” the entry point for the sample from the emission source.

V. Judicial Review

Under section 307(b)(1) of the CAA, judicial review of this final rule is available by filing a petition for review in the U.S. Court of Appeals for the District of Columbia Circuit by November 12, 2010. Under section 307(d)(7)(B) of the CAA, only an objection to this final rule that was raised with reasonable specificity during the period for public comment can be raised during judicial review. Moreover, under section 307(b)(2) of the CAA, the requirements established by this action may not be challenged separately in any civil or criminal proceedings brought by EPA to enforce these requirements.

VI. Statutory and Executive Order Reviews

A. Executive Order 12866: Regulatory Planning and Review

This action is not a “significant regulatory action” under the terms of Executive Order (E.O.) 12866 (58 FR 51735, October 4, 1993) and is, therefore, not subject to review under the E.O.

B. Paperwork Reduction Act

The information collection requirements in this rule have been submitted for approval to the Office of Management and Budget (OMB) under the Paperwork Reduction Act, 44 U.S.C. 3501 et seq. The information collection requirements are not enforceable until OMB approves them.

A regulated emission source conducting a compliance test would purchase an audit sample from an AASP. The AASP would report the true value of the audit sample to the compliance authority (State, local or EPA Regional Office). This is a new reporting requirement. The AASP would in most cases make the report by electronic mail. A report would be made for each audit sample that the AASP sold to a regulated emission source that was conducting an emissions test to determine compliance with an emission limit.

Based on historic data, EPA estimates that there will be about 1,000 audit samples sold each year generating the need for about 1,000 reports which corresponds to 80 hours burden or 0.08 hour per response for reporting and recordkeeping. The estimated cost burden is $5.05 per response or an annual burden of $5,050. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers for EPA's regulations in 40 CFR are listed in 40 CFR part 9. When this ICR is approved by OMB, the Agency will publish a technical amendment to 40 CFR part 9 in the Federal Register to display the OMB control number for the approved information collection requirements contained in this final rule.

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of this rule on small entities, small entity is defined as: (1) A small business as defined by the Small Business Administration's (SBA) regulations at 13 CFR 121.201; (2) a small governmental jurisdiction that is a government of a city, county, town, school district, or special district with a population of less than 50,000; and (3) a small organization that is any not-for-profit enterprise which is independently owned and operated and is not dominant in its field.

After considering the economic impacts of today's final rule on small entities, I certify that this action will not have a significant economic impact on a substantial number of small entities. The small entities directly regulated by this final rule are small businesses. We have determined that annually as many as 70 or 0.001 percent of small businesses will experience an impact of 0.013 to 0.2 percent of revenues.

D. Unfunded Mandates Reform Act

This rule does not contain a Federal mandate that may result in expenditures of $100 million or more for State, local, and Tribal governments, in the aggregate, or the private sector in any one year. The incremental costs associated with purchasing the audit samples (expected to be less than $1,000 per test) do not impose a significant burden on sources. Thus, this rule is not subject to the requirements of sections 202 or 205 of UMRA.

This rule is also not subject to the requirements of section 203 of UMRA because it contains no regulatory requirements that might significantly or uniquely affect small governments. In fact, this rule removes the responsibility of acquiring the audit samples to the regulated facility from the government agency.

E. Executive Order 13132: Federalism

This action does not have federalism implications. It will not have substantial direct effects on the States, on the relationship between the national government and the States, or on the distribution of power and responsibilities among the various levels of government, as specified in Executive Order 13132. This action adds language to the general provisions to allow accredited providers to supply stationary source audit samples and to require sources to obtain and use these samples from the accredited providers instead of from EPA, as is the current practice. Thus, Executive Order 13132 does not apply to this action.

F. Executive Order 13175: Consultation and Coordination With Indian Tribal Governments

This action does not have Tribal implications, as specified in Executive Order 13175 (65 FR 67249, November 9, 2000). This action adds language to the general provisions to allow accredited providers to supply stationary source audit samples and to require sources to obtain and use these samples from the accredited providers instead of from EPA, as is the current practice. Thus, Executive Order 13175 does not apply to this action.

G. Executive Order 13045: Protection of Children From Environmental Health Risks and Safety Risks

EPA interprets EO 13045 (62 FR 19885, April 23, 1997) as applying only to those regulatory actions that concern health or safety risks, such that the analysis required under section 5-501 of the E.O. has the potential to influence the regulation. This action is not subject to E.O. 13045 because it does not establish an environmental standard intended to mitigate health or safety risks.

H. Executive Order 13211: Actions Concerning Regulations That Significantly Affect Energy Supply, Distribution, or Use

This action is not subject to Executive Order 13211 (66 FR 28355 (May 22, 2001)), because it is not a significant regulatory action under Executive Order 12866.

I. National Technology Transfer and Advancement Act

Section 12(d) of the National Technology Transfer and Advancement Act of 1995 (“NTTAA”), Public Law 104-113 (15 U.S.C. 272 note) directs EPA to use voluntary consensus standards (VCS) in its regulatory activities unless to do so would be inconsistent with applicable law or otherwise impractical. Voluntary consensus standards are technical standards (e.g., materials specifications, test methods, sampling procedures, and business practices) that are developed or adopted by voluntary consensus standards bodies. NTTAA directs EPA to provide Congress, through OMB, explanations when the Agency decides not to use available and applicable voluntary consensus standards.

This rulemaking involves technical standards. Therefore, the Agency conducted a search to identify potential applicable voluntary consensus standards. However, we identified no such standards, and none were brought to our attention in comments. Therefore, EPA has decided to establish minimum requirements for the audit samples, the accredited audit sample providers and the audit sample provider accreditor.

J. Executive Order 12898: Federal Actions To Address Environmental Justice in Minority Populations and Low-Income Populations

Executive Order (E.O.) 12898 (59 FR 7629, February 16, 1994) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States.

EPA has determined that this final rule will not have disproportionately high and adverse human health or environmental effects on minority or low-income populations because it does not affect the level of protection provided to human health or the environment. The amendments would add language to the general provisions to allow accredited providers to supply stationary source audit samples and to require sources to obtain and use these samples from the accredited providers instead of from EPA, as is the current practice.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A Major rule cannot take effect until 60 days after it is published in the Federal Register. This action is not a “major rule” as defined by 5 U.S.C. 804(2). This rule will be effective October 13, 2010.

Restructuring of the Stationary Source Audit Program

List of Subjects

40 CFR Part 51

Administrative practice and procedure, Air pollution control, Carbon monoxide, Intergovernmental relations, Lead, Nitrogen oxide, Ozone, Particulate matter, Reporting and recordkeeping requirements, Sulfur compounds, Volatile organic compounds.

40 CFR Part 60

Environmental protection, Administrative practice and procedure, Air pollution control, Continuous emission monitors.

40 CFR Part 61

Environmental protection, Air pollution control.

40 CFR Part 63

Environmental protection, Administrative practice and Procedure, Air pollution control, Hazardous substances, Intergovernmental relations, Reporting and recordkeeping requirements.

Dated: August 26, 2010.
Lisa P. Jackson,
Administrator.

For the reasons set out in the preamble, title 40, chapter I of the Code of Federal Regulations is amended as follows:

PART 51—REQUIREMENTS FOR PREPARATION, ADOPTION, AND SUBMITTAL OF IMPLEMENTATION PLANS

1. The authority citation for part 51 continues to read as follows:

Authority: 23 U.S.C. 101; 42 U.S.C. 7401-7671q.

2. Amend Appendix M to part 51 as follows:

a. Designate the three introductory paragraphs as Sections 1.0 through 3.0.

b. Add new Section 4.0.

c. In Method 204A by removing Sections 7.2, 7.2.1, 7.2.2, and 7.2.3.

d. In Method 204B by removing Sections 6.2, 6.2.1, 6.2.2, and 6.2.3.

e. In Method 204C by removing Sections 6.2, 6.2.1, 6.2.2, and 6.2.3.

f. In Method 204D by removing Sections 6.2, 6.2.1, 6.2.2, and 6.2.3.

g. In Method 204E by removing Sections 6.2, 6.2.1, 6.2.2, and 6.2.3.

h. In Method 204F by removing Sections 6.3, 6.3.1, 6.3.2, 6.3.3.

Appendix M to Part 51—Recommended Test Methods for State Implementation Plans

* * * * *

4.0 Quality Assurance Procedures. The performance testing shall include a test method performance audit (PA) during the performance test. The PAs consist of blind audit samples supplied by an accredited audit sample provider and analyzed during the performance test in order to provide a measure of test data bias. Gaseous audit samples are designed to audit the performance of the sampling system as well as the analytical system and must be collected by the sampling system during the compliance test just as the compliance samples are collected. If a liquid or solid audit sample is designed to audit the sampling system, it must also be collected by the sampling system during the compliance test. If multiple sampling systems or sampling trains are used during the compliance test for any of the test methods, the tester is only required to use one of the sampling systems per method to collect the audit sample. The audit sample must be analyzed by the same analyst using the same analytical reagents and analytical system and at the same time as the compliance samples. Retests are required when there is a failure to produce acceptable results for an audit sample. However, if the audit results do not affect the compliance or noncompliance status of the affected facility, the compliance authority may waive the reanalysis requirement, further audits, or retests and accept the results of the compliance test. Acceptance of the test results shall constitute a waiver of the reanalysis requirement, further audits, or retests. The compliance authority may also use the audit sample failure and the compliance test results as evidence to determine the compliance or noncompliance status of the affected facility. A blind audit sample is a sample whose value is known only to the sample provider and is not revealed to the tested facility until after it reports the measured value of the audit sample. For pollutants that exist in the gas phase at ambient temperature, the audit sample shall consist of an appropriate concentration of the pollutant in air or nitrogen that will be introduced into the sampling system of the test method at or near the same entry point as a sample from the emission source. If no gas phase audit samples are available, an acceptable alternative is a sample of the pollutant in the same matrix that would be produced when the sample is recovered from the sampling system as required by the test method. For samples that exist only in a liquid or solid form at ambient temperature, the audit sample shall consist of an appropriate concentration of the pollutant in the same matrix that would be produced when the sample is recovered from the sampling system as required by the test method. An accredited audit sample provider (AASP) is an organization that has been accredited to prepare audit samples by an independent, third party accrediting body.

a. The source owner, operator, or representative of the tested facility shall obtain an audit sample, if commercially available, from an AASP for each test method used for regulatory compliance purposes. No audit samples are required for the following test methods: Methods 3C of Appendix A-3 of Part 60, Methods, 6C, 7E, 9, and 10 of Appendix A-4 of Part 60, Method 18 of Appendix A-6 of Part 60, Methods 20, 22, and 25A of Appendix A-7 of Part 60, and Methods 303, 318, 320, and 321 of Appendix A of Part 63. If multiple sources at a single facility are tested during a compliance test event, only one audit sample is required for each method used during a compliance test. The compliance authority responsible for the compliance test may waive the requirement to include an audit sample if they believe that an audit sample is not necessary. “Commercially available” means that two or more independent AASPs have blind audit samples available for purchase. If the source owner, operator, or representative cannot find an audit sample for a specific method, the owner, operator, or representative shall consult the EPA Web site at the following URL, http://www.epa.gov/ttn/emc, to confirm whether there is a source that can supply an audit sample for that method. If the EPA Web site does not list an available audit sample at least 60 days prior to the beginning of the compliance test, the source owner, operator, or representative shall not be required to include an audit sample as part of the quality assurance program for the compliance test. When ordering an audit sample, the source owner, operator, or representative shall give the sample provider an estimate for the concentration of each pollutant that is emitted by the source or the estimated concentration of each pollutant based on the permitted level and the name, address, and phone number of the compliance authority. The source owner, operator, or representative shall report the results for the audit sample along with a summary of the emission test results for the audited pollutant to the compliance authority and shall report the results of the audit sample to the AASP. The source owner, operator, or representative shall make both reports at the same time and in the same manner or shall report to the compliance authority first and report to the AASP. If the method being audited is a method that allows the samples to be analyzed in the field and the tester plans to analyze the samples in the field, the tester may analyze the audit samples prior to collecting the emission samples provided a representative of the compliance authority is present at the testing site. The tester may request and the compliance authority may grant a waiver to the requirement that a representative of the compliance authority must be present at the testing site during the field analysis of an audit sample. The source owner, operator, or representative may report the results of the audit sample to the compliance authority and then report the results of the audit sample to the AASP prior to collecting any emission samples. The test protocol and final test report shall document whether an audit sample was ordered and utilized and the pass/fail results as applicable.

b. An AASP shall have and shall prepare, analyze, and report the true value of audit samples in accordance with a written technical criteria document that describes how audit samples will be prepared and distributed in a manner that will ensure the integrity of the audit sample program. An acceptable technical criteria document shall contain standard operating procedures for all of the following operations:

1. Preparing the sample;

2. Confirming the true concentration of the sample;

3. Defining the acceptance limits for the results from a well qualified tester. This procedure must use well established statistical methods to analyze historical results from well qualified testers. The acceptance limits shall be set so that there is 95 percent confidence that 90 percent of well qualified labs will produce future results that are within the acceptance limit range;

4. Providing the opportunity for the compliance authority to comment on the selected concentration level for an audit sample;

5. Distributing the sample to the user in a manner that guarantees that the true value of the sample is unknown to the user;

6. Recording the measured concentration reported by the user and determining if the measured value is within acceptable limits;

7. Report the results from each audit sample in a timely manner to the compliance authority and to the source owner, operator, or representative by the AASP. The AASP shall make both reports at the same time and in the same manner or shall report to the compliance authority first and then report to the source owner, operator, or representative. The results shall include the name of the facility tested, the date on which the compliance test was conducted, the name of the company performing the sample collection, the name of the company that analyzed the compliance samples including the audit sample, the measured result for the audit sample, and whether the testing company passed or failed the audit. The AASP shall report the true value of the audit sample to the compliance authority. The AASP may report the true value to the source owner, operator, or representative if the AASP's operating plan ensures that no laboratory will receive the same audit sample twice.

8. Evaluating the acceptance limits of samples at least once every two years to determine in consultation with the voluntary consensus standard body if they should be changed;

9. Maintaining a database, accessible to the compliance authorities, of results from the audit that shall include the name of the facility tested, the date on which the compliance test was conducted, the name of the company performing the sample collection, the name of the company that analyzed the compliance samples including the audit sample, the measured result for the audit sample, the true value of the audit sample, the acceptance range for the measured value, and whether the testing company passed or failed the audit.

c. The accrediting body shall have a written technical criteria document that describes how it will ensure that the AASP is operating in accordance with the AASP technical criteria document that describes how audit samples are to be prepared and distributed. This document shall contain standard operating procedures for all of the following operations:

1. Checking audit samples to confirm their true value as reported by the AASP;

2. Performing technical systems audits of the AASP's facilities and operating procedures at least once every 2 years.

3. Providing standards for use by the voluntary consensus standard body to approve the accrediting body that will accredit the audit sample providers.

d. The technical criteria documents for the accredited sample providers and the accrediting body shall be developed through a public process guided by a voluntary consensus standards body (VCSB). The VCSB shall operate in accordance with the procedures and requirements in the Office of Management and Budget Circular A-119. A copy of Circular A-119 is available upon request by writing the Office of Information and Regulatory Affairs, Office of Management and Budget, 725 17th Street, NW., Washington, DC 20503, by calling (202) 395-6880 or by downloading online at http://standards.gov/standards_gov/a119.cfm. The VCSB shall approve all accrediting bodies. The Administrator will review all technical criteria documents. If the technical criteria documents do not meet the minimum technical requirements in this Appendix M, paragraphs b. through d., the technical criteria documents are not acceptable and the proposed audit sample program is not capable of producing audit samples of sufficient quality to be used in a compliance test. All acceptable technical criteria documents shall be posted on the EPA Web site at the following URL, http://www.epa.gov/ttn/emc.

* * * * *

PART 60—STANDARDS OF PERFORMANCE FOR NEW STATIONARY SOURCES

3. The authority citation for Part 60 continues to read as follows:

Authority: 42 U.S.C. 7410, 7414, 7421, 7470-7479, 7491, 7492, 7601 and 7602.

4. Section 60.8 is amended by adding paragraph (g) to read as follows:

§ 60.8 Performance tests.

* * * * *

(g) The performance testing shall include a test method performance audit (PA) during the performance test. The PAs consist of blind audit samples supplied by an accredited audit sample provider and analyzed during the performance test in order to provide a measure of test data bias. Gaseous audit samples are designed to audit the performance of the sampling system as well as the analytical system and must be collected by the sampling system during the compliance test just as the compliance samples are collected. If a liquid or solid audit sample is designed to audit the sampling system, it must also be collected by the sampling system during the compliance test. If multiple sampling systems or sampling trains are used during the compliance test for any of the test methods, the tester is only required to use one of the sampling systems per method to collect the audit sample. The audit sample must be analyzed by the same analyst using the same analytical reagents and analytical system and at the same time as the compliance samples. Retests are required when there is a failure to produce acceptable results for an audit sample. However, if the audit results do not affect the compliance or noncompliance status of the affected facility, the compliance authority may waive the reanalysis requirement, further audits, or retests and accept the results of the compliance test. Acceptance of the test results shall constitute a waiver of the reanalysis requirement, further audits, or retests. The compliance authority may also use the audit sample failure and the compliance test results as evidence to determine the compliance or noncompliance status of the affected facility. A blind audit sample is a sample whose value is known only to the sample provider and is not revealed to the tested facility until after they report the measured value of the audit sample. For pollutants that exist in the gas phase at ambient temperature, the audit sample shall consist of an appropriate concentration of the pollutant in air or nitrogen that can be introduced into the sampling system of the test method at or near the same entry point as a sample from the emission source. If no gas phase audit samples are available, an acceptable alternative is a sample of the pollutant in the same matrix that would be produced when the sample is recovered from the sampling system as required by the test method. For samples that exist only in a liquid or solid form at ambient temperature, the audit sample shall consist of an appropriate concentration of the pollutant in the same matrix that would be produced when the sample is recovered from the sampling system as required by the test method. An accredited audit sample provider (AASP) is an organization that has been accredited to prepare audit samples by an independent, third party accrediting body.

(1) The source owner, operator, or representative of the tested facility shall obtain an audit sample, if commercially available, from an AASP for each test method used for regulatory compliance purposes. No audit samples are required for the following test methods: Methods 3C of Appendix A-3 of Part 60, Methods 6C, 7E, 9, and 10 of Appendix A-4 of Part 60, Method 18 of Appendix A-6 of Part 60, Methods 20, 22, and 25A of Appendix A-7 of Part 60, and Methods 303, 318, 320, and 321 of Appendix A of Part 63. If multiple sources at a single facility are tested during a compliance test event, only one audit sample is required for each method used during a compliance test. The compliance authority responsible for the compliance test may waive the requirement to include an audit sample if they believe that an audit sample is not necessary. “Commercially available” means that two or more independent AASPs have blind audit samples available for purchase. If the source owner, operator, or representative cannot find an audit sample for a specific method, the owner, operator, or representative shall consult the EPA Web site at the following URL, http://www.epa.gov/ttn/emc, to confirm whether there is a source that can supply an audit sample for that method. If the EPA Web site does not list an available audit sample at least 60 days prior to the beginning of the compliance test, the source owner, operator, or representative shall not be required to include an audit sample as part of the quality assurance program for the compliance test. When ordering an audit sample, the source, operator, or representative shall give the sample provider an estimate for the concentration of each pollutant that is emitted by the source or the estimated concentration of each pollutant based on the permitted level and the name, address, and phone number of the compliance authority. The source owner, operator, or representative shall report the results for the audit sample along with a summary of the emission test results for the audited pollutant to the compliance authority and shall report the results of the audit sample to the AASP. The source owner, operator, or representative shall make both reports at the same time and in the same manner or shall report to the compliance authority first and then report to the AASP. If the method being audited is a method that allows the samples to be analyzed in the field and the tester plans to analyze the samples in the field, the tester may analyze the audit samples prior to collecting the emission samples provided a representative of the compliance authority is present at the testing site. The tester may request and the compliance authority may grant a waiver to the requirement that a representative of the compliance authority must be present at the testing site during the field analysis of an audit sample. The source owner, operator, or representative may report the results of the audit sample to the compliance authority and report the results of the audit sample to the AASP prior to collecting any emission samples. The test protocol and final test report shall document whether an audit sample was ordered and utilized and the pass/fail results as applicable.

(2) An AASP shall have and shall prepare, analyze, and report the true value of audit samples in accordance with a written technical criteria document that describes how audit samples will be prepared and distributed in a manner that will ensure the integrity of the audit sample program. An acceptable technical criteria document shall contain standard operating procedures for all of the following operations:

(i) Preparing the sample;

(ii) Confirming the true concentration of the sample;

(iii) Defining the acceptance limits for the results from a well qualified tester. This procedure must use well established statistical methods to analyze historical results from well qualified testers. The acceptance limits shall be set so that there is 95 percent confidence that 90 percent of well qualified labs will produce future results that are within the acceptance limit range.

(iv) Providing the opportunity for the compliance authority to comment on the selected concentration level for an audit sample;

(v) Distributing the sample to the user in a manner that guarantees that the true value of the sample is unknown to the user;

(vi) Recording the measured concentration reported by the user and determining if the measured value is within acceptable limits;

(vii) The AASP shall report the results from each audit sample in a timely manner to the compliance authority and then to the source owner, operator, or representative. The AASP shall make both reports at the same time and in the same manner or shall report to the compliance authority first and then report to the source owner, operator, or representative. The results shall include the name of the facility tested, the date on which the compliance test was conducted, the name of the company performing the sample collection, the name of the company that analyzed the compliance samples including the audit sample, the measured result for the audit sample, and whether the testing company passed or failed the audit. The AASP shall report the true value of the audit sample to the compliance authority. The AASP may report the true value to the source owner, operator, or representative if the AASP's operating plan ensures that no laboratory will receive the same audit sample twice.

(viii) Evaluating the acceptance limits of samples at least once every two years to determine in cooperation with the voluntary consensus standard body if they should be changed;

(ix) Maintaining a database, accessible to the compliance authorities, of results from the audit that shall include the name of the facility tested, the date on which the compliance test was conducted, the name of the company performing the sample collection, the name of the company that analyzed the compliance samples including the audit sample, the measured result for the audit sample, the true value of the audit sample, the acceptance range for the measured value, and whether the testing company passed or failed the audit.

(3) The accrediting body shall have a written technical criteria document that describes how it will ensure that the AASP is operating in accordance with the AASP technical criteria document that describes how audit samples are to be prepared and distributed. This document shall contain standard operating procedures for all of the following operations:

(i) Checking audit samples to confirm their true value as reported by the AASP;

(ii) Performing technical systems audits of the AASP's facilities and operating procedures at least once every two years;

(iii) Providing standards for use by the voluntary consensus standard body to approve the accrediting body that will accredit the audit sample providers.

(4) The technical criteria documents for the accredited sample providers and the accrediting body shall be developed through a public process guided by a voluntary consensus standards body (VCSB). The VCSB shall operate in accordance with the procedures and requirements in the Office of Management and Budget Circular A-119. A copy of Circular A-119 is available upon request by writing the Office of Information and Regulatory Affairs, Office of Management and Budget, 725 17th Street, NW., Washington, DC 20503, by calling (202) 395-6880 or downloading online at http://standards.gov/standards_gov/a119.cfm. The VCSB shall approve all accrediting bodies. The Administrator will review all technical criteria documents. If the technical criteria documents do not meet the minimum technical requirements in paragraphs (g)(2) through (4)of this section, the technical criteria documents are not acceptable and the proposed audit sample program is not capable of producing audit samples of sufficient quality to be used in a compliance test. All acceptable technical criteria documents shall be posted on the EPA Web site at the following URL, http://www.epa.gov/ttn/emc.

5. In Appendix A-3 to part 60 amend Method 5I by revising Section 7.2 to read as follows:

Appendix A-3 to Part 60—Test Methods 4 through 5I

* * * * *

Method 5I—Determination of Low Level Particulate Matter Emissions From Stationary Sources

* * * * *

7.2 Standards. There are no applicable standards commercially available for Method 5I analyses.

* * * * *

6. Amend Appendix A-4 to part 60 as follows:

a. In Method 6 as follows:

i. Remove Section 7.3.6., including the note that follows.

ii. Revise Section 9.0.

iii. Remove Sections 11.3, 11.3.1 through 11.3.3, 11.4, 11.4.1 through 11.4.4, and 12.4.

iv. Revise Section 12.1.

b. In Method 6A as follows:

i. Remove Section 11.2.

ii. Revise Section 16.5.

c. In Method 6B by removing Section 11.2.

d. In Method 6C by revising Section 16.1.

e. In Method 7 as follows:

i. Remove Section 7.3.10., including the note that follows.

ii. Revise Section 9.

iii. Remove Sections 11.4, 11.4.1 through 11.4.3, 11.5, 11.5.1 through 11.5.4, and 12.6.

iv. Revise Section 12.1.

f. In Method 7A as follows:

i. Revise Section 6.3.

ii. Remove Section 7.3.5.

iii. Revise Section 9.0.

iv. Remove Section 11.3.

g. In Method 7B as follows:

i. Revise Section 9.0.

ii. Remove Section 11.4.

h. In Method 7C as follows:

i. Remove Section 7.2.15.

ii. Revise Section 9.0.

iii. Remove Section 11.6.

i. In Method 7D as follows:

i. Remove Sections 7.2.6 and 11.3.

ii. Revise Section 9.0.

j. In Method 8 as follows:

i. Remove Section 7.3.1., including the note that follows.

ii. Revise Section 9.1.

iii. Remove Sections 11.3, 11.3.1, 11.3.2, 11.3.3, 11.4, 11.4.1, 11.4.2, 11.4.3, 11.4.4, and 12.9.

iiv. Revise Section 12.1.

Appendix A-4 to Part 60—Test Methods 6 Through 10B

* * * * *

Method 6—Determination of Sulfur Dioxide Emissions From Stationary Sources

* * * * *

9.0 Quality Control

Section | Quality control measure | Effect
7.1.2 | Isopropanol check | Ensure acceptable level of peroxide impurities in isopropanol.
8.2, 10.1-10.4 | Sampling equipment leak-check and calibration | Ensure accurate measurement of stack gas flow rate, sample volume.
10.5 | Barium standard solution standardization | Ensure precision of normality determination
11.2.3 | Replicate titrations | Ensure precision of titration determinations.

* * * * *

12.1 Nomenclature

CSO2 = Concentration of SO2, dry basis, corrected to standard conditions, mg/dscm (lb/dscf).

N = Normality of barium standard titrant, meq/ml.

Pbar = Barometric pressure, mm Hg (in. Hg).

Pstd = Standard absolute pressure, 760 mm Hg (29.92 in. Hg).

Tm = Average DGM absolute temperature, °K (°R).

Tstd = Standard absolute temperature, 293 °K (528 °R).

Va = Volume of sample aliquot titrated, ml.

Vm = Dry gas volume as measured by the DGM, dcm (dcf).

Vm(std) = Dry gas volume measured by the DGM, corrected to standard conditions, dscm (dscf).

Vsoln = Total volume of solution in which the SO2 sample is contained, 100 ml.

Vt = Volume of barium standard titrant used for the sample (average of replicate titration), ml.

Vtb = Volume of barium standard titrant used for the blank, ml.

Y = DGM calibration factor.

* * * * *

Method 6A—Determination of Sulfur Dioxide, Moisture and Carbon Dioxide Emissions From Fossil Fuel Combustion Sources

* * * * *

16.5 Sample Analysis. Analysis of the peroxide solution is the same as that described in Section 11.1.

* * * * *

Method 6C—Determination of Sulfur Dioxide Emissions From Stationary Sources (Instrumental Analyzer Procedure)

* * * * *

16.1 Alternative Interference Check. You may perform an alternative interference check consisting of at least three comparison runs between Method 6C and Method 6. This check validates the Method 6C results at each particular source category (type of facility) where the check is performed. When testing under conditions of low concentrations (<15 ppm), this alternative interference check is not allowed.

Note: The procedure described below applies to non-dilution sampling systems only. If this alternative interference check is used for a dilution sampling system, use a standard Method 6 sampling train and extract the sample directly from the exhaust stream at points collocated with the Method 6C sample probe.

a. Build the modified Method 6 sampling train (flow control valve, two midget impingers containing 3 percent hydrogen peroxide, and dry gas meter) shown in Figure 6C-1. Connect the sampling train to the sample bypass discharge vent. Record the dry gas meter reading before you begin sampling. Simultaneously collect modified Method 6 and Method 6C samples. Open the flow control valve in the modified Method 6 train as you begin to sample with Method 6C. Adjust the Method 6 sampling rate to 1 liter per minute (.10 percent). The sampling time per run must be the same as for Method 6 plus twice the average measurement system response time. If your modified Method 6 train does not include a pump, you risk biasing the results high if you over-pressurize the midget impingers and cause a leak. You can reduce this risk by cautiously increasing the flow rate as sampling begins.

b. After completing a run, record the final dry gas meter reading, meter temperature, and barometric pressure. Recover and analyze the contents of the midget impingers using the procedures in Method 6. Determine the average gas concentration reported by Method 6C for the run.

* * * * *

Method 7—Determination of Nitrogen Oxide Emissions From Stationary Sources

* * * * *

9.0 Quality Control

Section | Quality control measure | Effect
10.1 | Spectrophotometer calibration | Ensure linearity of spectrophotometer response to standards.

* * * * *

12.1 Nomenclature

A = Absorbance of sample.

A1 = Absorbance of the 100-μg NO2 standard.

A2 = Absorbance of the 200-μg NO2 standard.

A3 = Absorbance of the 300-μg NO2 standard.

A4 = Absorbance of the 400-μg NO2 standard.

C = Concentration of NOX as NO2, dry basis, corrected to standard conditions, mg/dsm³ (lb/dscf).

F = Dilution factor (i.e., 25/5, 25/10, etc., required only if sample dilution was needed to reduce the absorbance into the range of the calibration).

Kc = Spectrophotometer calibration factor.

M = Mass of NOX as NO2 in gas sample, μg.

Pf = Final absolute pressure of flask, mm Hg (in. Hg).

Pi = Initial absolute pressure of flask, mm Hg (in. Hg).

Pstd = Standard absolute pressure, 760 mm Hg (29.92 in. Hg).

Tf = Final absolute temperature of flask, °K (°R).

Ti = Initial absolute temperature of flask, °K (°R).

Tstd = Standard absolute temperature, 293 °K (528°R).

Vsc = Sample volume at standard conditions (dry basis), ml.

Vf = Volume of flask and valve, ml.

Va = Volume of absorbing solution, 25 ml.

* * * * *

Method 7A—Determination of Nitrogen Oxide Emissions From Stationary Sources (Ion Chromatographic Method)

* * * * *

6.3 Analysis. For the analysis, the following equipment and supplies are required. Alternative instrumentation and procedures will be allowed provided the calibration precision requirement in Section 10.1.2 can be met.

* * * * *

9.0 Quality Control

Section | Quality control measure | Effect
10.1 | Ion chromatographn calibration | Ensure linearity of ion chromatograph response to standards.

* * * * *

Method 7B—Determination of Nitrogen Oxide Emissions From Stationary Sources (Ultraviolet Spectrophotometric Method)

* * * * *

9.0 Quality Control

Section | Quality control measure | Effect
10.1 | Spectrophotometer calibration | Ensures linearity of spectrophotometer response to standards.

* * * * *

Method 7C—Determination of Nitrogen Oxide Emissions From Stationary Sources (Alkaline Permanganate/Colorimetric Method)

* * * * *

9.0 Quality Control

Section | Quality control measure | Effect
8.2, 10.1-10.3 | Sampling equipment leak-check and calibration | Ensure accurate measurement of sample volume.
10.4 | Spectrophotometer calibration | Ensure linearity of spectrophotometer response to standards
11.3 | Spiked sample analysis. | Ensure reduction efficiency of column.

* * * * *

Method 7D—Determination of Nitrogen Oxide Emissions From Stationary Sources—Alkaline-Permanganate/Ion Chromatographic Method

* * * * *

9.0 Quality Control

Section | Quality control measure | Effect
8.2, 10.1-10.3 | Sampling equipment leak-check and calibration | Ensure accurate measurement of sample volume.
10.4 | Spectrophotometer calibration | Ensure linearity of spectrophotometer response to standards.
11.3 | Spiked sample analysis | Ensure reduction efficiency of column.

* * * * *

Method 8—Determination of Sulfuric Acid and Sulfur Dioxide Emissions From Stationary Sources

* * * * *

9.1 Miscellaneous Quality Control Measures

Section | Quality control measure | Effect
7.1.3 | Isopropanol check | Ensure acceptable level of peroxide impurities in isopropanol.
8.4, 8.5, 10.1 | Sampling equipment leak-check and calibration | Ensure accurate measurement of stack gas flow rate, sample volume.
10.2 | Barium standard solution standardization | Ensure normality determination.
11.2 | Replicate titrations | Ensure precision of titration determinations.

* * * * *

12.1 Nomenclature. Same as Method 5, Section 12.1, with the following additions and exceptions:

CH2SO4 = Sulfuric acid (including SO3) concentration, g/dscm (lb/dscf).

CSO2 = Sulfur dioxide concentration, g/dscm (lb/dscf).

N = Normality of barium perchlorate titrant, meq/ml.

Va = Volume of sample aliquot titrated, 100 ml for H2SO4 and 10 ml for SO2.

Vsoln = Total volume of solution in which the sample is contained, 250 ml for the SO2 sample and 1000 ml for the H2SO4 sample.

Vt = Volume of barium standard solution titrant used for the sample, ml.

Vtb = Volume of barium standard solution titrant used for the blank, ml.

* * * * *

7. In Appendix A-5 to part 60 amend Method 15A as follows:

a. Revise Section 9.0.

b. Remove Section 11.2.

Appendix A-5 to Part 60—Test Methods 11 Through 15A

* * * * *

Method 15A—Determination of Total Reduced Sulfur Emissions From Sulfur Recovery Plants in Petroleum Refineries

* * * * *

9.0 Quality Control

Section | Quality control measure | Effect
8.5 | System performance check | Ensures validity of sampling train components and analytical procedure.
8.2, 10.0 | Sampling equipment leak-check and calibration | Ensures accurate measurement of stack gas flow rate, sample volume.
10.0 | Barium standard solution standardization | Ensures precision of normality determination.
11.1 | Replicate titrations | Ensures precision of titration determinations.

* * * * *

8. Amend Appendix A-6 to part 60 as follows:

a. Revise Method 16A as follows:

i. Revise Section 9.0.

ii. Remove Section 11.2.

b. Revise Method 18 as follows:

i. Remove Sections 7.2, including the note that follows, 8.2.1.5.2.2, and 8.2.1.7.

ii. Revise Section 8.2.2.2.

iii. Remove Sections 8.2.2.4, and 8.2.3.2.3.

iv. Revise Section 8.2.4.2.2.

v. Remove Sections 9.2 and 13.1(b).

vi. Revise “Gaseous Organic Sampling and Analysis Checklist” at the end of the appendix.

Appendix A-6 to Part 60—Test Methods 16 Through 18

* * * * *

Method 16A—Determination of Total Reduced Sulfur Emissions From Stationary Sources (Impinger Technique)

* * * * *

9.0 Quality Control

Section | Quality control measure | Effect
8.5 | System performance check | Ensure validity of sampling train components and analytical procedure.
8.2, 10.0 | Sampling equipment leak-check and calibration | Ensure accurate measurement of stack gas flow rate, sample volume.
10.0 | Barium standard solution standardization | Ensure precision of normality determination.
11.1 | Replicate titrations | Ensure precision of titration determinations.

* * * * *

Method 18—Measurement of Gaseous Organic Compound Emissions by Gas Chromatography

* * * * *

8.2.2.2 Procedure. Calibrate the GC using the procedures in Section 8.2.1.5.2.1. To obtain a stack gas sample, assemble the sampling system as shown in Figure 18-12. Make sure all connections are tight. Turn on the probe and sample line heaters. As the temperature of the probe and heated line approaches the target temperature as indicated on the thermocouple readout device, control the heating to maintain a temperature greater than 110 °C. Conduct a 3-point calibration of the GC by analyzing each gas mixture in triplicate. Generate a calibration curve. Place the inlet of the probe at the centroid of the duct, or at a point no closer to the walls than 1 m, and draw source gas into the probe, heated line, and sample loop. After thorough flushing, analyze the stack gas sample using the same conditions as for the calibration gas mixture. For each run, sample, analyze, and record five consecutive samples. A test consists of three runs (five samples per run times three runs, for a total of fifteen samples). After all samples have been analyzed, repeat the analysis of the mid-level calibration gas for each compound. For each calibration standard, compare the pre- and post-test average response factors (RF) for each compound. If the two calibration RF values (pre- and post-analysis) differ by more than 5 percent from their mean value, then analyze the other calibration gas levels for that compound and determine the stack gas sample concentrations by comparison to both calibration curves (this is done by preparing a calibration curve using all the pre- and post-test calibration gas mixture values.) If the two calibration RF values differ by less than 5 percent from their mean value, the tester has the option of using only the pre-test calibration curve to generate the concentration values. Record this calibration data and the other required data on the data sheet shown in Figure 18-11, deleting the dilution gas information.

Note: Take care to draw all samples and calibration mixtures through the sample loop at the same pressure.

* * * * *

8.2.4.2.2 Use a sample probe, if required, to obtain the sample at the centroid of the duct or at a point no closer to the walls than 1 m. Minimize the length of flexible tubing between the probe and adsorption tubes. Several adsorption tubes can be connected in series, if the extra adsorptive capacity is needed. Adsorption tubes should be maintained vertically during the test in order to prevent channeling. Provide the gas sample to the sample system at a pressure sufficient for the limiting orifice to function as a sonic orifice. Record the total time and sample flow rate (or the number of pump strokes), the barometric pressure, and ambient temperature. Obtain a total sample volume commensurate with the expected concentration(s) of the volatile organic(s) present and recommended sample loading factors (weight sample per weight adsorption media). Laboratory tests prior to actual sampling may be necessary to predetermine this volume. If water vapor is present in the sample at concentrations above 2 to 3 percent, the adsorptive capacity may be severely reduced. Operate the gas chromatograph according to the manufacturer's instructions. After establishing optimum conditions, verify and document these conditions during all operations. Calibrate the instrument and then analyze the emission samples.

* * * * *

Gaseous Organic Sampling and Analysis Check List (Respond With Initials or Number as Appropriate)
1. Pre-survey data | Date
A. Grab sample collected | ☐ ____
B. Grab sample analyzed for composition | ☐ ____
Method GC | ☐ ____
GC/MS | ☐ ____
Other____________ | ☐ ____
C. GC-FID analysis performed | ☐ ____
2. Laboratory calibration curves prepared | ☐ ____
A. Number of components | ☐ ____
B. Number of concentrations per component (3 required) | ☐ ____
C. OK obtained for field work | ☐ ____
3. Sampling procedures
A. Method
Bag sample | ☐ ____
Direct interface | ☐ ____
Dilution interface | ☐ ____
B. Number of samples collected | ☐ ____
4. Field Analysis
A. Total hydrocarbon analysis performed | ☐ ____
B. Calibration curve prepared | ☐ ____
Number of components | ☐ ____
Number of concentrations per component (3 required) | ☐ ____

* * * * *

9. Amend Appendix A-7 to part 60 as follows:

a. Revise Method 23 by removing Sections 8., 8.1., 8.2, 8.3, and 8.4.

b. Revise Method 25 as follows:

i. Remove Sections 7.5, 7.5.1, and 7.5.2., including the note that follows.

ii. Revise Section 9.0.

iii. Remove Sections 11.3, 11.3.1, 11.3.2, 11.3.3, 11.4, 11.4.1, 11.4.2, 11.4.3, and 11.4.4.

c. Revise Method 25C as follows:

i. Remove Sections 7.3, 7.3.1, and 7.3.2.

ii. Revise Section 9.1.

iii. Remove Sections 11.2, 11.2.1, 11.2.2, 11.3, 11.3.1, 11.3.2, 11.3.3, and 11.3.4.

d. Revise Method 25D by removing Sections 7.3, 7.3.1, 7.3.2, including the note that follows, 11.3, 11.3.1, 11.3.2, 11.3.3, 11.4, 11.4.1, 11.4.2.

Appendix A-7 to Part 60—Test Methods 19 Through 25E

* * * * *

Method 25—Determination of Total Gaseous Nonmethane Organic Emissions as Carbon

* * * * *

9.0 Quality Control

Section | Quality control measure | Effect
10.1.1 | Initial performance check of condensate recovery apparatus | Ensure acceptable condensate recovery efficiency.
10.1.2, 10.2 | NMO analyzer initial and daily performance checks | Ensure precision of analytical results.

* * * * *

Method 25C—Determination of Nonmethane Organic Compounds (NMOC) in Landfill Gases

* * * * *

9.1 Miscellaneous Quality Control Measures

Section | Quality control measure | Effect
8.4.1 | Verify that landfill gas sample contains less than 20 percent N2 or 5 percent O2 | Ensures that ambient air was not drawn into the landfill gas sample.
10.1, 10.2 | NMOC analyzer initial and daily performance checks | Ensures precision of analytical results.

* * * * *

10. Amend Appendix A-8 to part 60 as follows:

a. Revise Method 26 as follows:

i. Remove Section 7.3., including the note that follows.

ii. Revise Section 9.0.

iii. Remove Sections 11.2, 11.2.1, 11.2.2, 11.2.3, 11.3, 11.3.1, 11.3.2, 11.3.3, and 11.3.4.

b. Revise Method 26A as follows:

i. Remove Section 7.3., including the note that follows.

ii. Revise the first Section 9.1.

iii. Redesignate the second Section 9.1 as 9.2.

iv. Remove Sections 11.4, 11.4.1, 11.4.2, 11.4.3, 11.5, 11.5.1, 11.5.2, 11.5.3, and 11.5.4.

Appendix A-8 to Part 60—Test Methods 26 through 29

* * * * *

Method 26—Determination of Hydrogen Halide and Halogen Emissions From Stationary Sources Non-Isokinetic Method

* * * * *

9.0 Quality Control [Reserved]

* * * * *

Method 26A—Determination of Hydrogen Halide and Halogen Emissions From Stationary Sources Isokinetic Method

* * * * *

9.1 Miscellaneous Quality Control Measures

Section | Quality control measure | Effect
8.1.4, 10.1 | Sampling equipment leak-check and calibration | Ensure accurate measurement of stack gas flow rate, sample volume.

* * * * *

PART 61—NATIONAL EMISSION STANDARDS FOR HAZARDOUS AIR POLLUTANTS

11. The authority citation for Part 61 continues to read as follows:

Authority: 42 U.S.C. 7401, 7412, 7413, 7414, 7416, 7601, and 7602.

12. Section 61.13 is amended by adding paragraph (e)(1) and adding and reserving paragraph (e)(2) to read as follows:

§ 61.13 Emission tests and waiver of emission tests.

* * * * *

(e) * * *

(1) The performance testing shall include a test method performance audit (PA) during the performance test. The PAs consist of blind audit samples supplied by an accredited audit sample provider and analyzed during the performance test in order to provide a measure of test data bias. Gaseous audit samples are designed to audit the performance of the sampling system as well as the analytical system and must be collected by the sampling system during the compliance test just as the compliance samples are collected. If a liquid or solid audit sample is designed to audit the sampling system, it must also be collected by the sampling system during the compliance test. If multiple sampling systems or sampling trains are used during the compliance test for any of the test methods, the tester is only required to use one of the sampling systems per method to collect the audit sample. The audit sample must be analyzed by the same analyst using the same analytical reagents and analytical system and at the same time as the compliance samples. Retests are required when there is a failure to produce acceptable results for an audit sample. However, if the audit results do not affect the compliance or noncompliance status of the affected facility, the compliance authority may waive the reanalysis requirement, further audits, or retests and accept the results of the compliance test. Acceptance of the test results shall constitute a waiver of the reanalysis requirement, further audits, or retests. The compliance authority may also use the audit sample failure and the compliance test results as evidence to determine the compliance or noncompliance status of the affected facility. A blind audit sample is a sample whose value is known only to the sample provider and is not revealed to the tested facility until after they report the measured value of the audit sample. For pollutants that exist in the gas phase at ambient temperature, the audit sample shall consist of an appropriate concentration of the pollutant in air or nitrogen that can be introduced into the sampling system of the test method at or near the same entry point as a sample from the emission source. If no gas phase audit samples are available, an acceptable alternative is a sample of the pollutant in the same matrix that would be produced when the sample is recovered from the sampling system as required by the test method. For samples that exist only in a liquid or solid form at ambient temperature, the audit sample shall consist of an appropriate concentration of the pollutant in the same matrix that would be produced when the sample is recovered from the sampling system as required by the test method. An accredited audit sample provider (AASP) is an organization that has been accredited to prepare audit samples by an independent, third party accrediting body.

(i) The source owner, operator, or representative of the tested facility shall obtain an audit sample, if commercially available, from an AASP for each test method used for regulatory compliance purposes. No audit samples are required for the following test methods: Methods 3C of Appendix A-3 of Part 60, Methods 6C, 7E, 9, and 10 of Appendix A-4 of Part 60, Method 18 of Appendix A-6 of Part 60, Methods 20, 22, and 25A of Appendix A-7 of Part 60, and Methods 303, 318, 320, and 321 of Appendix A of Part 63. If multiple sources at a single facility are tested during a compliance test event, only one audit sample is required for each method used during a compliance test. The compliance authority responsible for the compliance test may waive the requirement to include an audit sample if they believe that an audit sample is not necessary. “Commercially available” means that two or more independent AASPs have blind audit samples available for purchase. If the source owner, operator, or representative cannot find an audit sample for a specific method, the owner, operator, or representative shall consult the EPA Web site at the following URL, www.epa.gov/ttn/emc, to confirm whether there is a source that can supply an audit sample for that method. If the EPA Web site does not list an available audit sample at least 60 days prior to the beginning of the compliance test, the source owner, operator, or representative shall not be required to include an audit sample as part of the quality assurance program for the compliance test. When ordering an audit sample, the source owner, operator, or representative shall give the sample provider an estimate for the concentration of each pollutant that is emitted by the source or the estimated concentration of each pollutant based on the permitted level and the name, address, and phone number of the compliance authority. The source owner, operator, or representative shall report the results for the audit sample along with a summary of the emission test results for the audited pollutant to the compliance authority and shall report the results of the audit sample to the AASP. The source owner, operator, or representative shall make both reports at the same time and in the same manner or shall report to the compliance authority first and report to the AASP. If the method being audited is a method that allows the samples to be analyzed in the field and the tester plans to analyze the samples in the field, the tester may analyze the audit samples prior to collecting the emission samples provided a representative of the compliance authority is present at the testing site. The tester may request and the compliance authority may grant a waiver to the requirement that a representative of the compliance authority must be present at the testing site during the field analysis of an audit sample. The source owner, operator, or representative may report the results of the audit sample to the compliance authority and then report the results of the audit sample to the AASP prior to collecting any emission samples. The test protocol and final test report shall document whether an audit sample was ordered and utilized and the pass/fail results as applicable.

(ii) An AASP shall have and shall prepare, analyze, and report the true value of audit samples in accordance with a written technical criteria document that describes how audit samples will be prepared and distributed in a manner that will ensure the integrity of the audit sample program. An acceptable technical criteria document shall contain standard operating procedures for all of the following operations:

(A) Preparing the sample;

(B) Confirming the true concentration of the sample;

(C) Defining the acceptance limits for the results from a well qualified tester. This procedure must use well established statistical methods to analyze historical results from well qualified testers. The acceptance limits shall be set so that there is 95 percent confidence that 90 percent of well qualified labs will produce future results that are within the acceptance limit range;

(D) Providing the opportunity for the compliance authority to comment on the selected concentration level for an audit sample;

(E) Distributing the sample to the user in a manner that guarantees that the true value of the sample is unknown to the user;

(F) Recording the measured concentration reported by the user and determining if the measured value is within acceptable limits;

(G) Reporting the results from each audit sample in a timely manner to the compliance authority and to the source owner, operator, or representative by the AASP. The AASP shall make both reports at the same time and in the same manner or shall report to the compliance authority first and then report to the source owner, operator, or representative. The results shall include the name of the facility tested, the date on which the compliance test was conducted, the name of the company performing the sample collection, the name of the company that analyzed the compliance samples including the audit sample, the measured result for the audit sample, and whether the testing company passed or failed the audit. The AASP shall report the true value of the audit sample to the compliance authority. The AASP may report the true value to the source owner, operator, or representative if the AASP's operating plan ensures that no laboratory will receive the same audit sample twice.

(H) Evaluating the acceptance limits of samples at least once every two years to determine in consultation with the voluntary consensus standard body if they should be changed;

(I) Maintaining a database, accessible to the compliance authorities, of results from the audit that shall include the name of the facility tested, the date on which the compliance test was conducted, the name of the company performing the sample collection, the name of the company that analyzed the compliance samples including the audit sample, the measured result for the audit sample, the true value of the audit sample, the acceptance range for the measured value, and whether the testing company passed or failed the audit.

(iii) The accrediting body shall have a written technical criteria document that describes how it will ensure that the AASP is operating in accordance with the AASP technical criteria document that describes how audit or samples are to be prepared and distributed. This document shall contain standard operating procedures for all of the following operations:

(A) Checking audit samples to confirm their true value as reported by the AASP.

(B) Performing technical systems audits of the AASP's facilities and operating procedures at least once every two years.

(C) Providing standards for use by the voluntary consensus standard body to approve the accrediting body that will accredit the audit sample providers.

(iv) The technical criteria documents for the accredited sample providers and the accrediting body shall be developed through a public process guided by a voluntary consensus standards body (VCSB). The VCSB shall operate in accordance with the procedures and requirements in the Office of Management and Budget Circular A-119. A copy of Circular A-119 is available upon request by writing the Office of Information and Regulatory Affairs, Office of Management and Budget, 725 17th Street, NW., Washington, DC 20503, by calling (202) 395-6880 or downloading online at http://standards.gov/standards_gov/a119.cfm. The VCSB shall approve all accrediting bodies. The Administrator will review all technical criteria documents. If the technical criteria documents do not meet the minimum technical requirements in paragraphs (e)(1)(ii) through (iv) of this section, the technical criteria documents are not acceptable and the proposed audit sample program is not capable of producing audit samples of sufficient quality to be used in a compliance test. All acceptable technical criteria documents shall be posted on the EPA Web site at the following URL, http://www.epa.gov/ttn/emc.

(2) [Reserved]

* * * * *

Appendix B—[Amended]

13. Amend Appendix B to part 61 as follows:

a. In Method 104 revise Section 9.

b. In Method 106 as follows:

i. Remove Sections 7.2.4, 7.2.4.1, including the note that follows, and 7.2.4.2.

ii. Revise Section 9.0.

iii. Remove Sections 9.1, 9.2, and 11.1.

c. In Method 108 as follows:

i. Remove Section 7.3.16., including the note that follows.

ii. Revise Section 9.1.

iii. Remove Sections 11.6, 11.6.1, 11.6.2, including the note that follows, 11.6.3, 11.7, 11.7.1, 11.7.2, 11.7.3, and 11.7.4.

iv. Revise Section 12.1.

d. In Method 108A as follows:

i. Remove Section 7.2.1.

ii. Revise Section 9.0.

iii. Remove Sections 11.6, 11.6.1, 11.6.2, including the note that follows, 11.6.3, 11.7, 11.7.1, 11.7.2, 11.7.3, and 11.7.4.

e. In Method 108B as follows:

i. Remove Section 7.2.5.

ii. Revise Section 9.0.

iii. Remove Section 11.5.

f. In Method 108C as follows:

i. Remove Sections 7.2.10.

ii. Revise Section 9.0.

iii. Remove Section 11.3.

g. In Method 111 as follows:

i. Revise Section 9.2.

ii. Revise Section 11.0.

iii. Remove Section 11.3.

Appendix B to Part 61—Test Methods

* * * * *

Method 104—Determination of Beryllium Emissions From Stationary Sources

* * * * *

9.0 Quality Control

Section | Quality control measure | Effect
8.4, 10.1 | Sampling equipment leak checks and calibration | Ensure accuracy and precision of sampling measurements.
10.2 | Spectrophotometer calibration | Ensure linearity of spectrophotometer response to standards.
11.5 | Check for matrix effects | Eliminate matrix effects.

* * * * *

Method 106—Determination of Vinyl Chloride Emissions From Stationary Sources

* * * * *

9.0 Quality Control

Section | Quality control measure | Effect
10.3 | Chromatograph calibration | Ensure precision and accuracy of chromatograph.

* * * * *

Method 108—Determination of Particulate and Gaseous Arsenic Emissions

* * * * *

9.0 Quality Control

9.1 Miscellaneous Quality Control Measures.

Section | Quality control measure | Effect
8.4, 10.1 | Sampling equipment leak-checks and calibration | Ensures accuracy and precision of sampling measurements.
10.4 | Spectrophotometer calibration | Ensures linearity of spectrophotometer response to standards.
11.5 | Check for matrix effects | Eliminates matrix effects.

* * * * *

12.1 Nomenclature

Bws = Water in the gas stream, proportion by volume.

Ca = Concentration of arsenic as read from the standard curve, μg/ml.

Cs = Arsenic concentration in stack gas, dry basis, converted to standard conditions, g/dsm³ (gr/dscf).

Ea = Arsenic mass emission rate, g/hr (lb/hr).

Fd = Dilution factor (equals 1 if the sample has not been diluted).

I = Percent of isokinetic sampling.

mbi = Total mass of all four impingers and contents before sampling, g.

mfi = Total mass of all four impingers and contents after sampling, g.

mn = Total mass of arsenic collected in a specific part of the sampling train, μg.

mt = Total mass of arsenic collected in the sampling train, μg.

Tm = Absolute average dry gas meter temperature (see Figure 108-2), °K (°R).

Vm = Volume of gas sample as measured by the dry gas meter, dry basis, m³ (ft³).

Vm(std) = Volume of gas sample as measured by the dry gas meter, corrected to standard conditions, m³ (ft³).

Vn = Volume of solution in which the arsenic is contained, ml.

Vw(std) = Volume of water vapor collected in the sampling train, corrected to standard conditions, m³ (ft³).

ΔH = Average pressure differential across the orifice meter (see Figure 108-2), mm H2O (in. H2O).

* * * * *

Method 108A—Determination of Arsenic Content in Ore Samples From Nonferrous Smelters

* * * * *

9.0 Quality Control

Section | Quality control measure | Effect
10.2 | Spectrophotometer calibration | Ensure linearity of spectrophotometer response to standards.
11.5 | Check for matrix effects | Eliminate matrix effects.

* * * * *

Method 108B—Determination of Arsenic Content in Ore Samples From Nonferrous Smelters

* * * * *

9.0 Quality Control

Section | Quality control measure | Effect
10.2 | Spectrophotometer calibration | Ensure linearity of spectrophotometer response to standards.
11.4 | Check for matrix effects | Eliminate matrix effects.

* * * * *

Method 108C—Determination of Arsenic Content in Ore Samples From Nonferrous Smelters (Molybdenum Blue Photometric Procedure)

* * * * *

9.0 Quality Control

Section | Quality control measure | Effect
10.2 | Calibration curve preparation | Ensure linearity of spectrophotometric response to standards.

* * * * *

Method 111—Determination of Polonium—210 Emissions From Stationary Sources

* * * * *

9.2 Miscellaneous Quality Control Measures

Section | Quality control measure | Effect
10.1 | Standardization of alpha spectrometry system | Ensure precision of sample analyses.
10.3 | Standardization of internal proportional counter | Ensure precise sizing of sample aliquot.
11.1, 11.2 | Determination of procedure background and instrument background | Minimize background effects.

* * * * *

11.0 Analytical Procedure

Note: Perform duplicate analyses of all samples, including background counts and Method 5 samples. Duplicate measurements are considered acceptable when the difference between them is less than two standard deviations as described in EPA 600/4-77-001 or subsequent revisions.

* * * * *

PART 63—NATIONAL EMISSIONS STANDARDS FOR HAZARDOUS AIR POLLUTANTS FOR SOURCE CATEGORIES

14. The authority citation for part 63 continues to read as follows:

Authority: 42 U.S.C. 7401 et seq.

15. Section 63.7 is amended by revising (c)(2)(iii) and removing paragraph (c)(4).

The revision reads as follows:

§ 63.7 Performance testing requirements.

* * * * *

(c) * * *

(2) * * *

(iii) The performance testing shall include a test method performance audit (PA) during the performance test. The PAs consist of blind audit samples supplied by an accredited audit sample provider and analyzed during the performance test in order to provide a measure of test data bias. Gaseous audit samples are designed to audit the performance of the sampling system as well as the analytical system and must be collected by the sampling system during the compliance test just as the compliance samples are collected. If a liquid or solid audit sample is designed to audit the sampling system, it must also be collected by the sampling system during the compliance test. If multiple sampling systems or sampling trains are used during the compliance test for any of the test methods, the tester is only required to use one of the sampling systems per method to collect the audit sample. The audit sample must be analyzed by the same analyst using the same analytical reagents and analytical system and at the same time as the compliance samples. Retests are required when there is a failure to produce acceptable results for an audit sample. However, if the audit results do not affect the compliance or noncompliance status of the affected facility, the compliance authority may waive the reanalysis requirement, further audits, or retests and accept the results of the compliance test. Acceptance of the test results shall constitute a waiver of the reanalysis requirement, further audits, or retests. The compliance authority may also use the audit sample failure and the compliance test results as evidence to determine the compliance or noncompliance status of the affected facility. A blind audit sample is a sample whose value is known only to the sample provider and is not revealed to the tested facility until after they report the measured value of the audit sample. For pollutants that exist in the gas phase at ambient temperature, the audit sample shall consist of an appropriate concentration of the pollutant in air or nitrogen that can be introduced into the sampling system of the test method at or near the same entry point as a sample from the emission source. If no gas phase audit samples are available, an acceptable alternative is a sample of the pollutant in the same matrix that would be produced when the sample is recovered from the sampling system as required by the test method. For samples that exist only in a liquid or solid form at ambient temperature, the audit sample shall consist of an appropriate concentration of the pollutant in the same matrix that would be produced when the sample is recovered from the sampling system as required by the test method. An accredited audit sample provider (AASP) is an organization that has been accredited to prepare audit samples by an independent, third party accrediting body.

(A) The source owner, operator, or representative of the tested facility shall obtain an audit sample, if commercially available, from an AASP for each test method used for regulatory compliance purposes. No audit samples are required for the following test methods: Methods 3C of Appendix A-3 of Part 60, Methods 6C, 7E, 9, and 10 of Appendix A-4 of Part 60, Method 18 of Appendix A-6 of Part 60, Methods 20, 22, and 25A of Appendix A-7 of Part 60, and Methods 303, 318, 320, and 321 of Appendix A of Part 63. If multiple sources at a single facility are tested during a compliance test event, only one audit sample is required for each method used during a compliance test. The compliance authority responsible for the compliance test may waive the requirement to include an audit sample if they believe that an audit sample is not necessary. “Commercially available” means that two or more independent AASPs have blind audit samples available for purchase. If the source owner, operator, or representative cannot find an audit sample for a specific method, the owner, operator, or representative shall consult the EPA Web site at the following URL, http://www.epa.gov/ttn/emc, to confirm whether there is a source that can supply an audit sample for that method. If the EPA Web site does not list an available audit sample at least 60 days prior to the beginning of the compliance test, the source owner, operator, or representative shall not be required to include an audit sample as part of the quality assurance program for the compliance test. When ordering an audit sample, the source owner, operator, or representative shall give the sample provider an estimate for the concentration of each pollutant that is emitted by the source or the estimated concentration of each pollutant based on the permitted level and the name, address, and phone number of the compliance authority. The source owner, operator, or representative shall report the results for the audit sample along with a summary of the emission test results for the audited pollutant to the compliance authority and shall report the results of the audit sample to the AASP. The source owner, operator, or representative shall make both reports at the same time and in the same manner or shall report to the compliance authority first and report to the AASP. If the method being audited is a method that allows the samples to be analyzed in the field and the tester plans to analyze the samples in the field, the tester may analyze the audit samples prior to collecting the emission samples provided a representative of the compliance authority is present at the testing site. The tester may request and the compliance authority may grant a waiver to the requirement that a representative of the compliance authority must be present at the testing site during the field analysis of an audit sample. The source owner, operator, or representative may report the results of the audit sample to the compliance authority and then report the results of the audit sample to the AASP prior to collecting any emission samples. The test protocol and final test report shall document whether an audit sample was ordered and utilized and the pass/fail results as applicable.

(B) An AASP shall have and shall prepare, analyze, and report the true value of audit samples in accordance with a written technical criteria document that describes how audit samples will be prepared and distributed in a manner that will ensure the integrity of the audit sample program. An acceptable technical criteria document shall contain standard operating procedures for all of the following operations:

(1) Preparing the sample;

(2) Confirming the true concentration of the sample;

(3) Defining the acceptance limits for the results from a well qualified tester. This procedure must use well established statistical methods to analyze historical results from well qualified testers. The acceptance limits shall be set so that there is 95 percent confidence that 90 percent of well qualified labs will produce future results that are within the acceptance limit range;

(4) Providing the opportunity for the compliance authority to comment on the selected concentration level for an audit sample;

(5) Distributing the sample to the user in a manner that guarantees that the true value of the sample is unknown to the user;

(6) Recording the measured concentration reported by the user and determining if the measured value is within acceptable limits;

(7) Reporting the results from each audit sample in a timely manner to the compliance authority and to the source owner, operator, or representative by the AASP. The AASP shall make both reports at the same time and in the same manner or shall report to the compliance authority first and then report to the source owner, operator, or representative. The results shall include the name of the facility tested, the date on which the compliance test was conducted, the name of the company performing the sample collection, the name of the company that analyzed the compliance samples including the audit sample, the measured result for the audit sample, and whether the testing company passed or failed the audit. The AASP shall report the true value of the audit sample to the compliance authority. The AASP may report the true value to the source owner, operator, or representative if the AASP's operating plan ensures that no laboratory will receive the same audit sample twice.

(8) Evaluating the acceptance limits of samples at least once every two years to determine in consultation with the voluntary consensus standard body if they should be changed.

(9) Maintaining a database, accessible to the compliance authorities, of results from the audit that shall include the name of the facility tested, the date on which the compliance test was conducted, the name of the company performing the sample collection, the name of the company that analyzed the compliance samples including the audit sample, the measured result for the audit sample, the true value of the audit sample, the acceptance range for the measured value, and whether the testing company passed or failed the audit.

(C) The accrediting body shall have a written technical criteria document that describes how it will ensure that the AASP is operating in accordance with the AASP technical criteria document that describes how audit samples are to be prepared and distributed. This document shall contain standard operating procedures for all of the following operations:

(1) Checking audit samples to confirm their true value as reported by the AASP.

(2) Performing technical systems audits of the AASP's facilities and operating procedures at least once every two years.

(3) Providing standards for use by the voluntary consensus standard body to approve the accrediting body that will accredit the audit sample providers.

(D) The technical criteria documents for the accredited sample providers and the accrediting body shall be developed through a public process guided by a voluntary consensus standards body (VCSB). The VCSB shall operate in accordance with the procedures and requirements in the Office of Management and Budget Circular A-119. A copy of Circular A-119 is available upon request by writing the Office of Information and Regulatory Affairs, Office of Management and Budget, 725 17th Street, NW., Washington, DC 20503, by calling (202) 395-6880 or downloading online at http://standards.gov/standards_gov/a119.cfm. The VCSB shall approve all accrediting bodies. The Administrator will review all technical criteria documents. If the technical criteria documents do not meet the minimum technical requirements in paragraphs (c)(2)(iii)(B) through (C) of this section, the technical criteria documents are not acceptable and the proposed audit sample program is not capable of producing audit samples of sufficient quality to be used in a compliance test. All acceptable technical criteria documents shall be posted on the EPA Web site at the following URL, http://www.epa.gov/ttn/emc.

* * * * *

Appendix A to Part 63—[Amended]

15. Amend Appendix A to Part 63 as follows:

a. In Method 306 by removing Sections 7.5, 7.5.1, 7.5.2, 9.1.8, 9.1.8.1, 9.1.8.2, 9.1.8.3, 9.1.9, 9.1.9.1, 9.1.9.2, 9.1.9.3, 9.1.9.4, 9.2.8, 9.2.8.1, 9.2.8.2, 9.2.8.3, 9.2.9, 9.2.9.1, 9.2.9.2, 9.2.9.3, 9.2.9.4, 9.3.6, 9.3.6.1, 9.3.6.2, 9.3.6.3, 9.3.7, 9.3.7.1, 9.3.7.2, 9.3.7.3, and 9.3.7.4.

b. In Method 306A by removing Sections 7.5, 7.5.1, and 7.5.2.

c. In Method 308 by removing Sections 9.2, 9.3, 9.4, and 9.5.

* * * * *

[FR Doc. 2010-21820 Filed 9-10-10; 8:45 am]

BILLING CODE 6560-50-P